DEPARTMENT OF THE TREASURY

Office of Foreign Assets Control

Additional Identifying Information Associated With Persons Whose Property and Interests in Property Are Blocked Pursuant to the Executive Order 13566 of February 25, 2011, “Blocking Property and Prohibiting Certain Transactions Related to Libya”

AGENCY: Office of Foreign Assets Control, Treasury.

ACTION: Notice.

SUMMARY: The Treasury Department's Office of Foreign Assets Control (“OFAC”) is publishing additional identifying information associated with the five individuals listed in the Annex to Executive Order 13566 of February 25, 2011, “Blocking Property and Prohibiting Certain Transactions Related to Libya,” whose property and interests in property are therefore blocked.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On February 25, 2011, the President issued Executive Order 13566, “Blocking Property and Prohibiting Certain Transactions Related to Libya,” (the “Order”) pursuant to the International Emergency Economic Powers Act (50 U.S.C. 1701 et seq.) (IEEPA), the National Emergencies Act (50 U.S.C. 1601 et seq.) (the NEA), and section 301 of title 3, United States Code.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order.

The Annex to the Order lists five individuals whose property and interests in property are blocked pursuant to the Order. OFAC is publishing additional identifying information associated with those individuals.

Listings for those individuals on OFAC's list of Specially Designated Nationals and Blocked Persons, which incorporates this additional identifying information, are as follows:

INDIVIDUALS

Dated: February 25, 2011

QADHAFI, Ayesha (a.k.a. AL-GADDAFI, Ayesha; a.k.a. AL-QADHAFI, Aisha; a.k.a. ELKADDAFI, Aisha; a.k.a. EL-QADDAFI, Aisha; a.k.a. GADDAFI, Ayesha; a.k.a. GADHAFI, Aisha; a.k.a. GHADAFFI, Aisha; a.k.a. GHATHAFI, Aisha; a.k.a. GHATHAFI, Aisha Muammer; a.k.a. QADDAFI, Aisha; a.k.a. QADHAFI, Aisha); DOB circa 1977; alt. DOB circa 1976 (individual) [LIBYA2]

QADHAFI, Khamis (a.k.a. AL-GADDAFI, Khamis; a.k.a. AL-QADHAFI; a.k.a. AL-QADHAFI, Khamis; a.k.a. ELKADDAFI, Khamis; a.k.a. EL-QADDAFI, Khamis; a.k.a. GADDAFI, Khamis; a.k.a. GADHAFI, Khamis; a.k.a. GHADAFFI, Khamis; a.k.a. GHATHAFI, Khamis; a.k.a. QADDAFI, Khamis); DOB 1980 (individual) [LIBYA2]

QADHAFI, Muammar (a.k.a. AL-GADDAFI, Muammar; a.k.a. AL-QADHAFI, Muammar; a.k.a. AL-QADHAFI, Muammar Abu Minyar; a.k.a. ELKADDAFI, Muammar; a.k.a. EL-QADDAFI, Muammar; a.k.a. GADDAFI, Mu'ammar; a.k.a. GADDAFI, Muammar; a.k.a. GADHAFI, Muammar; a.k.a. GHADAFFI, Muammar Muhammad; a.k.a. GHATHAFI, Muammar; a.k.a. QADDAFI, Muammar); DOB 1942; POB Sirte, Libya (individual) [LIBYA2]

GADDAFI, Mutassim (a.k.a. AL-GADDAFI, Mutassim; a.k.a. AL-QADHAFI, Mutassim; a.k.a. ELKADDAFI, Mutassim; a.k.a. EL-QADDAFI, Mutassim; a.k.a. GADHAFI, Mutassim Billah; a.k.a. GHADAFFI, Mutassim; a.k.a. GHATHAFI, Mutassim; a.k.a. QADDAFI, Mutassim; a.k.a. QADHAFI, Mutassim); DOB circa 1975 (individual) [LIBYA2]

QADHAFI, Saif al-Islam (a.k.a. AL-GADDAFI, Saif al-Islam; a.k.a. AL-QADHAFI, Saif al-Islam; a.k.a. ELKADDAFI, Saif al-Islam; a.k.a. EL-QADDAFI, Seif al-Islam; a.k.a. GADDAFI, Saif al-Islam; a.k.a. GADHAFI, Saif al-Islam; a.k.a. GHADAFFI, Saif al-Islam; a.k.a. GHATHAFI, Saif al-Islam; a.k.a. QADDAFI, Saif al-Islam); DOB 25 Jun 1972; POB Tripoli, Libya (individual) [LIBYA2]

Dated: March 22, 2011.
Adam Szubin,
Director, Office of Foreign Assets Control.

[FR Doc. 2011-7225 Filed 3-25-11; 8:45 am]

BILLING CODE 4811-42-P